DEPARTMENT OF DEFENSE

Department of the Air Force

Record of Decision for the Barry M. Goldwater Range East Range Enhancements Final Environmental Impact Statement

ACTION: Notice of Availability (NOA) of a Record of Decision (ROD).

SUMMARY: On May 20, 2011, the United States Air Force signed the ROD for the Barry M. Goldwater Range East Range Enhancements Final Environmental Impact Statement. The ROD states the Air Force decision to implement six of the 10 proposals analyzed in the Environmental Impact Statement. These six proposals include: Proposal 1, Developing a sensor training area; Proposal 4, developing a new target for live air to-to-ground missiles within the East tactical range; Proposal 6, Converting a portion of Manned Range 3 into a helicopter gunnery range; Proposal 8, constructing a new taxiway and air traffic control tower at Gila Bend Air Force Auxilary Field; and proposal 10, Excavating, stockpiling, and using sand and gravel resources on the BMGR East. While no decision has been made for the remaining four proposals at this time, the Air Force anticipates issuing one or more RODs for these independent proposals at a future date.

The decision was based on matters discussed in the Final Environmental Impact Statement (EIS), inputs from the public and regulatory agencies, and other relevant factors. The Final EIS was made available to the public on November, 26, 2010 through a NOA in the Federal Register (Volume 75, Number 227, Page 72824) with a wait period that ended on December 27, 2010. The ROD documents only the decision of the Air Force with respect to the proposed Air Force actions analyzed in the Final EIS. Authority: This NOA is published pursuant to the regulations (40 CFR part 1506.6) implementing the provisions of the NEPA of 1969 (42 USC. 4321, et seq.) and the Air Force's Environmental Impact Analysis Process (EIAP) (32 CFR Parts 989.21(b) and 989.24(b)(7)).

FOR FURTHER INFORMATION CONTACT: Lisa McCarrick, 56 RMO/ESMP 7224 N 139th Dr, Bldg 302, Luke AFB, AZ 85309, 623-856-9475.

Bao-Anh Trinh,
Air Force Federal Register Liaison Officer.

[FR Doc. 2011-13459 Filed 5-31-11; 8:45 am]

BILLING CODE 5001-10-P